DEPARTMENT OF COMMERCE

Census Bureau

[Docket No.: 061213333-6333-01]

Privacy Act of 1974: System of Records

AGENCY: U.S. Census Bureau, Commerce.

ACTION: Notice; COMMERCE/CENSUS-10, “American Community Survey.”

SUMMARY: The Department of Commerce (Commerce) publishes this notice to announce the effective date of a Privacy Act System of Records notice entitled COMMERCE/CENSUS-10, “American Community Survey.”

DATES: The system of records becomes effective on January 17, 2007.

ADDRESSES: For a copy of the system of records please mail requests to Gerald W. Gates, Chief Privacy Officer, U.S. Census Bureau, Washington, DC 20233, 301-763-2515.

FOR FURTHER INFORMATION CONTACT: Gerald W. Gates, Chief Privacy Officer, U.S. Census Bureau, Washington, DC 20233, 301-763-2515.

SUPPLEMENTARY INFORMATION: On June 29, 2006, the Commerce Department published and requested comments on a proposed new Privacy Act System of Records notice entitled COMMERCE/CENSUS-10, “American Community Survey.” No comments were received in response to the request for comments. By this notice, the Department is adopting the proposed system as final without changes effective January 17, 2007.

Dated: January 10, 2007.
Brenda Dolan,
Department of Commerce Freedom of Information and Privacy Act Officer.

[FR Doc. E7-492 Filed 1-16-07; 8:45 am]

BILLING CODE 3510-07-P